DEPARTMENT OF THE INTERIOR

National Park Service

[NPS-WASO-NAGPRA-NPS0023954; PPWOCRADN0-PCU00RP14.R50000]

Notice of Inventory Completion: Logan Museum of Anthropology, Beloit College, Beloit, WI

AGENCY: National Park Service, Interior.

ACTION: Notice.

SUMMARY: The Logan Museum of Anthropology has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Logan Museum of Anthropology. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Logan Museum of Anthropology at the address in this notice by October 23, 2017.

ADDRESSES: William Green, Logan Museum of Anthropology, Beloit College, 700 College Street, Beloit, WI 53511, telephone (608) 363-2119, email greenb@beloit.edu.

SUPPLEMENTARY INFORMATION: Notice is here given in accordance with the Native American Graves Protection and Repatriation Act (NAGPRA), 25 U.S.C. 3003, of the completion of an inventory of human remains under the control of the Logan Museum of Anthropology, Beloit College, Beloit, WI. The human remains were removed from Collier, Lee, and Martin Counties, FL, and possibly other locations in South Florida.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Logan Museum of Anthropology's professional staff in consultation with representatives of the Miccosukee Tribe of Indians. Representatives of the Seminole Tribe of Florida (previously listed as the Seminole Tribe of Florida (Dania, Big Cypress, Brighton, Hollywood & Tampa Reservations)) and The Seminole Nation of Oklahoma were also contacted, but did not express an interest in being a part of the NAGPRA consultation.

History and Description of the Remains

In the 1970s, human remains representing, at minimum, four individuals were removed from the Buck Key South site (8LL2624) in Lee County, FL, by avocational archeologists. The excavated burials were mostly bundle burials believed, on the basis of their depth and the absence of historic trade goods, to be pre-contact Calusa. No temporally or culturally diagnostic material was noted or recovered with the burials. The site did contain Spanish contact material in the form of small glass beads on the surface, and not associated with the excavated burials. Other archeological sites on Buck Key contain material associated with the Caloosahatchee III-V periods (A.D. 1200-1750). James E. Lockwood, Jr., acquired the human remains and donated them to the Logan Museum in 1983. The human remains include three subadults of indeterminate sex and one adult male. No known individuals were identified. No associated funerary objects are present.

In the 1970s, human remains representing, at minimum, one individual were removed from the Horr's Island 6 site (8CR42) in Collier County, FL, by avocational archeologists. James E. Lockwood, Jr., acquired the human remains and donated them to the Logan Museum in 1983. Previous excavations had found European beads with the uppermost burials at the site, but the human remains removed in the 1970s are likely pre-contact Calusa (Glades 1-III periods, A.D. 800-1600) because they were found at a greater depth in the mound and had no trade goods. The human remains include one adult male. No known individual was identified. No associated funerary objects are present.

In the 1970s, human remains representing, at minimum, six individuals were removed from the Buck Key South site (8LL2624, Lee County, FL) and/or the Horr's Island 6 site (8CR42, Collier County, FL), by avocational archeologists. James E. Lockwood, Jr., acquired these human remains and donated them to the Logan Museum in 1983. On the basis of the known human remains from Buck Key South and Horr's Island 6 in the Lockwood collection, it is likely that these human remains are pre-contact in age (A.D. 800-1600). The human remains include one adult female, three adult probable females, and two adult males. No known individuals were identified. No associated funerary objects are present.

Around 1972, human remains representing, at minimum, 20 individuals were removed from the Hutchinson's Island Burial Mound (8MT37) in Martin County, FL, by avocational archeologists. Burials were located at depths of two to four feet and included several secondary burials (bundled, flexed, extended) as well as one primary extended burial. James E. Lockwood, Jr., acquired these human remains and donated them to the Logan Museum in 1983. At a minimum, the human remains of one individual were definitely removed from Hutchinson's Island Burial Mound, and 19 additional individuals were likely removed from this mound. The individuals determined as likely from this site are those that were not treated with a preservative. Notes indicate that this site is the only one in the Lockwood collection whose human remains were not so treated. Previously excavated material from this site has been attributed to the Late Archaic (2000-1200 B.C.) and Glades I (1000 B.C.-A.D. 750) periods and to the pre-contact Ais culture. The human remains include three adult males, six adult probable females, six adult probable males, two adults of unknown sex, one adult or subadult of unknown sex, one subadult female, and one subadult of unknown sex. No known individuals were identified. No associated funerary objects are present.

In the 1970s, human remains representing, at minimum, one individual were removed by avocational archeologists from a mound in South Florida. The human remains were probably removed from Buck Key South (8LL2624, Lee County, FL), Horr's Island 6 (8CR42, Collier County, FL), or the Hutchinson Island Burial Mound (8MT37, Martin County, FL). James E. Lockwood, Jr., acquired these human remains and donated them to the Logan Museum in 1983. The human remains include one juvenile of indeterminate sex. No known individual was identified. No associated funerary objects are present.

At an unknown date, human remains representing, at minimum, 11 individuals were removed from an unknown site or sites in Florida. In 1975, Herbert S. Zim donated these human remains to the museum. Because Zim lived in South Florida, it is likely that the human remains are from South Florida. The human remains include four adult males, one adult of indeterminate sex, four subadults of indeterminate sex, and two individuals of indeterminate age and sex. No known individuals were identified. No associated funerary objects are present.

Determinations Made by the Logan Museum of Anthropology

Officials of the Logan Museum of Anthropology have determined that:

• Pursuant to 25 U.S.C. 3001(9), the human remains described in this notice are Native American based on archeological contexts and physical characteristics.

• Pursuant to 25 U.S.C. 3001(9), the human remains described in this notice represent the physical remains of a minimum of 43 individuals of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of the Miccosukee Tribe of Indians, the Seminole Tribe of Florida (previously listed as the Seminole Tribe of Florida (Dania, Big Cypress, Brighton, Hollywood & Tampa Reservations)), and The Seminole Nation of Oklahoma.

• Treaties, Acts of Congress, or Executive Orders, indicate that the land from which the Native American human remains were removed is the aboriginal land of the Miccosukee Tribe of Indians, the Seminole Tribe of Florida (previously listed as the Seminole Tribe of Florida (Dania, Big Cypress, Brighton, Hollywood & Tampa Reservations)), and The Seminole Nation of Oklahoma.

• Pursuant to 43 CFR 10.11(c)(1), the disposition of the human remains may be to the Miccosukee Tribe of Indians, the Seminole Tribe of Florida (previously listed as the Seminole Tribe of Florida (Dania, Big Cypress, Brighton, Hollywood & Tampa Reservations)), and The Seminole Nation of Oklahoma.

Additional Requestors and Disposition

Representatives of any Indian Tribe or Native Hawaiian organization not identified in this notice that wish to request transfer of control of these human remains should submit a written request with information in support of the request to William Green, Logan Museum of Anthropology, Beloit College, 700 College Street, Beloit, WI 53511, telephone (608) 363-2119, email greenb@beloit.edu, by October 23, 2017. After that date, if no additional requestors have come forward, transfer of control of the human remains to the Miccosukee Tribe of Indians, the Seminole Tribe of Florida (previously listed as the Seminole Tribe of Florida (Dania, Big Cypress, Brighton, Hollywood & Tampa Reservations)), and The Seminole Nation of Oklahoma may proceed.

The Logan Museum of Anthropology is responsible for notifying the Miccosukee Tribe of Indians, the Seminole Tribe of Florida (previously listed as the Seminole Tribe of Florida (Dania, Big Cypress, Brighton, Hollywood & Tampa Reservations)), and The Seminole Nation of Oklahoma that this notice has been published.

Dated: August 4, 2017.
Melanie O'Brien,
Manager, National NAGPRA Program.

[FR Doc. 2017-20291 Filed 9-21-17; 8:45 am]

BILLING CODE 4312-52-P